DEPARTMENT OF THE INTERIOR

Bureau of Land Management

[NV-930-1430-ES-N-62871, N-65749 and N-63203]

Notice of Realty Action: Lease/Conveyance for Recreation and Public Purposes

AGENCY: Bureau of Land Management.

ACTION: Recreation and Public Purpose Lease/conveyance.

SUMMARY: The following described public land in Las Vegas, Clark County, Nevada has been examined and found suitable for lease/conveyance for recreational or public purposes under the provisions of the Recreation and Public Purposes Act, as amended (43 U.S.C. 869 et seq.). The Clark County School District proposes to use the land for elementary and middle schools.

Mount Diablo Meridian, Nevada

N-62871—T. 20 S., R. 59 E.,

Section 12, SW¼NE¼NE¼,SE¼NW¼NE¼, Containing 20.00 acres, more or less. Elementary school site

N-65749—T. 22 S., R. 61 E.,

Section 28, lots 106, 115, 124, 132. Containing 10.00 acres, more or less. Roberta Cartwright Elementary School

N-63203—T. 19 S., R. 61 E.,

Section 21, lot 10 (Currently shown as the S½ lot 5 prior to resurvey), Containing 20.29 acres, more or less. Middle school site

The land is not required for any federal purpose. The leases/conveyances are consistent with current Bureau planning for this area and would be in the public interest. The leases/patents, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to:

3. Easements in favor of Clark County for roads, public utilities and flood control purposes in accordance with the Clark County Transportation Plan.

4. All valid and existing rights, which are identified in the respective case files.

The lands have been segregated from all forms of appropriation under the Southern Nevada Public Lands Management Act (PL 105-263).

Detailed information concerning this action is available for review at the office of the Bureau of Land Management, Las Vegas Field Office, 4765 W. Vegas Drive, Las Vegas, Nevada. 89108 Upon publication of this notice in the Federal Register, the above described land will be segregated from all other forms of appropriation under the public land laws, including the general mining laws, except for lease/conveyance under the Recreation and Public Purposes Act, leasing under the mineral leasing laws and disposal under the mineral material disposal laws.

For a period of 45 days from the date of publication of this notice in the Federal Register, interested parties may submit comments regarding the proposed lease/conveyance for classification of the lands to the District Manager, Las Vegas Field Office, 4765 Vegas Drive, Las Vegas, Nevada 89108.

Classification Comments

Interested parties may submit comments involving the suitability of the land for school sites. Comments on the classifications are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for two elementary and a middle school site.

Any adverse comments will be reviewed by the State Director.

In the absence of any adverse comments, the classification of the land described in this Notice will become effective 60 days from the date of publication in the Federal Register. The lands will not be offered for lease/conveyance until after the classification becomes effective.

Dated: February 28, 2000.
Rex Wells,
Assistant Field Manager, Las Vegas Field Office.

[FR Doc. 00-6462 Filed 3-15-00; 8:45 am]

BILLING CODE 4510-HC-P